SECURITIES AND EXCHANGE COMMISSION

[Release No. 34-95855]

Notice of Intention To Cancel Registrations of Certain Transfer Agents

Notice is hereby given that the Securities and Exchange Commission (“Commission”) intends to issue an order, pursuant to Section 17A(c)(4)(B) of the Securities Exchange Act of 1934 (“Act”),¹ cancelling the registrations of the transfer agents whose names appear in the attached Appendix.

¹ 15 U.S.C. 78q-1(c)(4)(B).

FOR FURTHER INFORMATION CONTACT: Moshe Rothman, Assistant Director, or Catherine Whiting, Senior Counsel, at (202) 551-4990, U.S. Securities and Exchange Commission, Division of Trading and Markets, 100 F Street NE, Washington, DC 20549 or by email at tradingandmarkets@sec.gov with the phrase “Notice of Intention to Cancel Transfer Agent Registration” in the subject line.

Background: Section 17A(c)(4)(B) of the Act provides that if the Commission finds that any transfer agent registered with the Commission is no longer in existence or has ceased to do business as a transfer agent, the Commission shall by order cancel that transfer agent's registration.

Although the Commission has made efforts to locate and to determine the status of each of the transfer agents listed in the Appendix, based on the facts it has, the Commission believes that each of those transfer agents is no longer in existence or has ceased doing business as a transfer agent. Accordingly, at any time after November 1, 2022, the Commission intends to issue an order cancelling the registrations of the transfer agents listed in the Appendix.

The representative of any transfer agent listed in the Appendix who believes the registration of the transfer agent should not be cancelled must notify the Commission by email within 30 days after the notice date. Email notifications must be sent to tradingandmarkets@sec.gov with the phrase “Notice of Intention to Cancel Transfer Agent Registration” in the subject line.

For the Commission by the Division of Trading and Markets, pursuant to delegated authority.²
² 17 CFR 200.30-3(a)(22).
Dated: September 21, 2022.
J. Matthew DeLesDernier,
Deputy Secretary.

Appendix
Transfer agent name | File No.
Advanced Fund Administration, LLC | 084-06396
Ameritor Financial Corp | 084-00018
Andesa Services, Inc | 084-06233
Bank Of Commerce & Trust Co | 084-06235
Colbent Corp | 084-05927
Cronos Capital Corp | 084-00977
Donald Rivers Goolsby Whfit | 084-06560
Dynamic Transfer Services Corp | 084-06394
Fidelity Transfer Services, Inc | 084-06405
Financial Data Services Inc | 084-01339
First National Bank In Sioux Falls | 084-06228
Foresight Asset Management LLC | 084-06051
Gartmore Investors Services, Inc | 084-06229
Grohe Aktiengesellschaft | 084-06022
Gulf Registrar And Transfer Corp | 084-06136
Hartford Investor Services Co LLC | 084-05882
Interstate Transfer Co | 084-05573
M & K Produce Inc | 084-06183
National Western Life Insurance Co | 084-00693
Orbitex Fund Services Inc | 084-01493
Orion Share Transfer LLC | 084-06295
Patriot Stock Transfer LLC | 084-06382
Portfolios Inc | 084-05551
Preferred Partnership Services Inc | 084-05747
Presidential Life Corp | 084-00816
Pyxis Global Financial Services | 084-06463
Republic Stock Transfer Inc | 084-01124
Reserve Fund | 084-00449
Reserve Management Corp | 084-05838
Reserve Petroleum Co | 084-00630
Reserve Short-Term Investment Trust | 084-06156
Retirement System Consultants Inc | 084-01972
SCC Transfer, LLC | 084-06579
Seligman Common Stock Fund Inc | 084-00503
Seligman Core Fixed Income Fund Inc | 084-05921
Seligman High Income Fund Series | 084-01266
Seligman New Jersey Municipal Fund Inc | 084-01686
Seligman Pennsylvania Municipal Fund Series Inc | 084-01486
Seligman Select Municipal Fund Inc | 084-01896
Seligman Tax-Aware Fund, Inc | 084-05894
Tass LLC | 084-06115
The Provo Group, Inc | 084-05890
Travelers Rest Resort Inc | 084-06056
Truman Stock Transfer LLC | 084-06320
Universal Stock Transfer Co., Inc | 084-06308
Wall Street Transfer Agents Inc | 084-06203
West Coast Stock Transfer, Inc | 084-06138
American Heritage Stock Transfer, Inc | 084-06137
Dominion Filing And Transfer Inc | 084-06514
European Fund Services S.A | 084-06182
Pioneer Global Investments Ltd | 084-05682
Law Debenture Trust Co Of New York | 084-06087

[FR Doc. 2022-20815 Filed 9-26-22; 8:45 am]

BILLING CODE 8011-01-P